DEPARTMENT OF THE INTERIOR

National Park Service

[NPS-WASO-NAGPRA-NPS0039945; PPWOCRADN0-PCU00RP14.R50000]

Notice of Inventory Completion: University of California, Davis, Davis, CA

AGENCY: National Park Service, Interior.

ACTION: Notice.

SUMMARY: In accordance with the Native American Graves Protection and Repatriation Act (NAGPRA), the University of California (UC Davis) has completed an inventory of associated funerary objects and has determined that there is a cultural affiliation between the associated funerary objects and Indian Tribes or Native Hawaiian organizations in this notice.

DATES: Repatriation of the associated funerary objects in this notice may occur on or after May 19, 2025.

ADDRESSES: Megon Noble, NAGPRA Project Manager, University of California, Davis, 412 Mrak Hall, One Shields Avenue, Davis, CA 95616, telephone (530) 752-8501, email mnoble@ucdavis.edu.

SUPPLEMENTARY INFORMATION: This notice is published as part of the National Park Service's administrative responsibilities under NAGPRA. The determinations in this notice are the sole responsibility of UC Davis and additional information on the determinations in this notice, including the results of consultation, can be found in the inventory or related records. The National Park Service is not responsible for the determinations in this notice.

Abstract of Information Available

Based on the information available, there are a total of 1,159 lots of associated funerary objects (five of which are currently missing). The associated funerary objects are associated with human remains previously removed and reburied at the site. The 1,154 lots of present associated funerary objects are one lot of modified wood, three lots of modified clay, five lots of abraders, eight lots of charcoal, 16 lots of soil samples, 26 lots of groundstone, 47 lots of shell, 63 lots of miscellaneous organic items (seeds and wood), 80 lots of worked bone, 101 lots of projectile points, 138 lots of faunal bone, and 666 lots of chipped stone. The five lots of currently missing associated funerary objects are two lots of worked bone, one lot of quartz crystal, one lot of turtle bone, and one lot of unidentified missing material. Trudy Vaughn of Coyote & Fox Enterprises first excavated site CA-SHA-1048, located south of Redding, California, on April 26, 2005. The site was excavated again by Far Western Anthropological Research Group under Bill Hildebrandt's direction in July and August, 2005 in anticipation of the construction of a residential development. Accession 519 is comprised of materials from both excavations. The University is unaware of any treatment of the associated funerary objects with pesticides, preservatives, or other substances that represent a potential hazard to the objects or to persons handling the objects.

Cultural Affiliation

Based on the information available and the results of consultation, cultural affiliation is clearly identified by the information available about the associated funerary objects described in this notice.

Determinations

UC Davis has determined that:

• The 1,159 objects described in this notice are reasonably believed to have been placed intentionally with or near individual human remains at the time of death or later as part of the death rite or ceremony.

• There is a reasonable connection between the associated funerary objects described in this notice and the Grindstone Indian Rancheria of Wintun-Wailaki Indians of California; Paskenta Band of Nomlaki Indians of California; Redding Rancheria, California; and the Round Valley Indian Tribes, Round Valley Reservation, California.

Requests for Repatriation

Written requests for repatriation of the associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the associated funerary objects in this notice to a requestor may occur on or after May 19, 2025. If competing requests for repatriation are received, UC Davis must determine the most appropriate requestor prior to repatriation. Requests for joint repatriation of associated funerary objects are considered a single request and not competing requests. UC Davis is responsible for sending a copy of this notice to the Indian Tribes and Native Hawaiian organizations identified in this notice.

(Authority: Native American Graves Protection and Repatriation Act, 25 U.S.C. 3003, and the implementing regulations, 43 CFR 10.10.)

Dated: April 8, 2025.
Melanie O'Brien,
Manager, National NAGPRA Program.

[FR Doc. 2025-06635 Filed 4-17-25; 8:45 am]

BILLING CODE 4312-52-P